OFFICE OF THE UNITED STATES TRADE REPRESENTATIVE

[Docket Number USTR-2017-0012]

Request for Comments and Notice of Public Hearing Concerning Russia's Implementation of Its WTO Commitments

AGENCY: Office of the United States Trade Representative.

ACTION: Notice and request for comments.

SUMMARY: The interagency Trade Policy Staff Committee (TPSC) will convene a public hearing and seeks comments to assist the Office of the United States Trade Representative (USTR) in the preparation of its annual report to Congress on Russia's implementation of its obligations as a member of the World Trade Organization (WTO).

DATES:

September 22, 2017: Deadline for filing a summary of testimony and requests to appear at the September 28, 2017 public hearing, and for submitting public comments.

September 28, 2017: The TPSC will convene a public hearing on Russia's implementation of its obligations as a member of the WTO at 9:30 a.m. in Rooms 1 & 2, 1724 F Street NW., Washington, DC 20508.

ADDRESSES: USTR strongly prefers electronic submissions made through the Federal eRulemaking Portal: http://www.regulations.gov. Follow the instructions for submitting comments in section 3 below. The docket number is USTR-2017-0012. For alternatives to on-line submissions, please contact Yvonne Jamison, Trade Policy Staff Committee, at (202) 395-3475.

FOR FURTHER INFORMATION CONTACT: For procedural questions concerning written comments or participating in the public hearing, contact Yvonne Jamison at (202) 395-3475. Direct all other questions regarding this notice to Betsy Hafner, Deputy Assistant United States Trade Representative for Russia and Eurasia, at (202) 395-9124.

SUPPLEMENTARY INFORMATION:

1. Background

Russia became a member of the WTO on August 22, 2012, and on December 21, 2012, following the termination of the application of the Jackson-Vanik amendment to Russia and the extension of permanent normal trade relations to the products of Russia, the United States and Russia both filed letters with the WTO withdrawing their notices of non-application and consenting to have the WTO Agreement apply between them. In accordance with section 201(a) of the Russia and Moldova Jackson-Vanik Repeal and Sergei Magnitsky Rule of Law Accountability Act of 2012 (Pub. L. 112-208), USTR is required to submit, by December 21st of each year, a report to Congress on the extent to which Russia is implementing the WTO Agreement, including the Agreement on the Application of Sanitary and Phytosanitary Measures and the Agreement on Trade Related Aspects of Intellectual Property Rights. The report also must assess Russia's progress on acceding to the Government Procurement Agreement (GPA) and the Information Technology Agreement, the latter of which Russia implemented fully in 2016. In addition, to the extent that USTR finds that Russia is not implementing fully the WTO Agreement or is not making adequate progress in acceding to the GPA, USTR must describe in the report the actions it plans to take to encourage Russia to improve its implementation and/or increase its accession efforts. In accordance with section 201(a), and to assist it in preparing this year's report, the TPSC is soliciting comments on these issues.

The terms of Russia's accession to the WTO are contained in the Marrakesh Agreement Establishing the World Trade Organization and the Protocol on the Accession of the Russian Federation to the WTO (including its annexes) (Protocol). The Report of the Working Party on the Accession of the Russian Federation (Working Party Report) provides detail and context to the commitments listed in the Protocol. You can find the Protocol and Working Party Report on USTR's Web site at https://ustr.gov/node/5887 or on the WTO Web site at http://docsonline.wto.org (document symbols: WT/ACC/RUS/70, WT/MIN(11)/2, WT/MIN(11)/24, WT/L/839, and WT/ACC/RUS/70/Add.1, WT/ACC/RUS/70/Add.2.

2. Public Comments and Hearing

USTR must receive written comments no later than 11:59 p.m. on Friday, September 22, 2017. USTR invites written comments and/or oral testimony on Russia's implementation of the commitments made in connection with its accession to the WTO, including, but not limited to, commitments in the following areas:

a. Import regulation (e.g., tariffs, tariff-rate quotas, quotas, import licenses).

b. Export regulation.

c. Subsidies.

d. Standards and technical regulations.

e. Sanitary and phytosanitary measures.

f. Trade-related investment measures.

g. Taxes and charges levied on imports and exports.

h. Other internal policies affecting trade.

i. Intellectual property rights (including intellectual property rights enforcement).

j. Services.

k. Rule of law issues (e.g., transparency, judicial review, uniform administration of laws and regulations).

l. Trade-related investment measures.

m. Other WTO commitments.

The TPSC will convene a public hearing on Thursday, September 28, 2017, in Rooms 1 & 2, 1724 F Street NW., Washington, DC 20508. We must receive your written requests to present oral testimony at the hearing and a summary of that testimony by noon on by 11:59 p.m. on Friday, September 22, 2017. You must make the intent to testify notification in the “Type Comment” field under docket number USTR-2017-0012 on the www.regulations.gov Web site and you should include the name, address, telephone number and email address, if available, of the person presenting the testimony. You should attach a summary of the testimony by using the “Upload File” field. The name of the file also should include who will be presenting the testimony. Remarks at the hearing should be limited to no more than five minutes to allow for possible questions from the TPSC.

You should submit all documents in accordance with the instructions in section 3 below.

3. Requirements for Submissions

In order to be assured of consideration, we must receive your written comments in English by 11:59 p.m. on Friday, September 22, 2017. USTR strongly encourages commenters to make on-line submissions, using the www.regulations.gov Web site. On the first page of the submission, please identify it as “Russia's Implementation of its WTO Commitments.”

To submit comments via www.regulations.gov, enter docket number USTR-2017-0012 on the home page and click “search.” The site will provide a search-results page listing all documents associated with this docket. Find a reference to this notice and click on the link entitled “Comment Now!” For further information on using the www.regulations.gov Web site, please consult the resources provided on the Web site by clicking on “How to Use Regulations.gov” on the bottom of the home page. We will not accept hand-delivered submissions.

The www.regulations.gov Web site allows users to submit comments by filling in a “Type Comment” field or by attaching a document using an “Upload File” field. USTR prefers that you submit comments in an attached document. If you attach a document, it is sufficient to type “See attached” in the “Type Comment” field. USTR prefers submissions in Microsoft Word (.doc) or Adobe Acrobat (.pdf). If you use an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov. You must make any alternative arrangements with Yvonne Jamison in advance of transmitting a comment. You can contact Ms. Jamison at (202) 395-3475. General information concerning USTR is available at www.ustr.gov.

We will post comments in the docket for public inspection, except business confidential information. You can view comments on the www.regulations.gov Web site by entering the relevant docket number in the search field on the home page.

Edward Gresser,
Chair, Trade Policy Staff Committee, Office of the United States Trade Representative.

[FR Doc. 2017-16389 Filed 8-3-17; 8:45 am]

BILLING CODE 3290-F7-P